DEPARTMENT OF HEALTH AND HUMAN SERVICES

Announcement of the Second Meeting of the Physical Activity Guidelines Advisory Committee

AGENCY: Department of Health and Human Services, Office of the Secretary, Office of Public Health and Science.

ACTION: Notice.

Authority: 42 U.S.C. 217a, section 222 of the Public Health Service Act, as amended. The Committee is governed by the provision of Public Law 92-463, as amended (5 U.S.C. Appendix 2), which sets forth standards for the formation and use of advisory committees.

SUMMARY: The U.S. Department of Health and Human Services (HHS) announces the second in a series of three federal advisory committee meetings on the Physical Activity Guidelines for Americans, to be held in Washington, DC. This meeting will be open to the public. The Physical Activity Guidelines Advisory Committee has been charged with reviewing existing scientific literature to identify where there is sufficient evidence to develop a comprehensive set of specific physical activity recommendations. The Committee will prepare a report to the Secretary of HHS that documents the scientific background and rationale for the issuance of Physical Activity Guidelines for Americans. The report will also identify areas where further scientific research is needed. The Committee's recommendations will be utilized by the Department to prepare the final Physical Activity Guidelines. The intent is to issue physical activity recommendations for all Americans that will be tailored as necessary for specific subgroups of the population.

DATES: The Committee will meet December 6-7, 2007 for a day and a half meeting. The December 6 session will be from 8:30 a.m. to 5 p.m. The December 7 session will be from 8:30 a.m. to 1:15 p.m.

ADDRESSES: The meeting will be held in the Cohen Auditorium at the Wilbur J. Cohen Building, located at 330 Independence Avenue, SW., Washington, DC 20201.

FOR FURTHER INFORMATION CONTACT: CAPT Richard Troiano, PhD., Executive Secretary, Physical Activity Guidelines Advisory Committee, Department of Health and Human Services, Office of Public Health and Science, Office of Disease Prevention and Health Promotion, Room LL-100, 1101 Wootton Parkway, Rockville, MD 20852, 240/453-8280 (telephone), 240/453-8281 (fax). Additional information is available on the Internet at http://www.health.gov/PAguidelines.

SUPPLEMENTARY INFORMATION: The Physical Activity Guidelines Advisory Committee: The thirteen-member Committee is chaired by William Haskell, PhD., Professor of Medicine, Stanford University School of Medicine. The Vice-Chair is Miriam Nelson, PhD., Director, John Hancock Center for Physical Activity and Nutrition, Friedman School of Nutrition Science and Policy, Tufts University. Other members of the Committee include Rod K. Dishman, PhD., Professor of Exercise Science and Director, Exercise Psychology Laboratory, Department of Kinesiology, University of Georgia; Edward Howley, PhD., Professor Emeritus, Department of Exercise, Sport, and Leisure Studies, University of Tennessee; Wendy Kohrt, PhD., Professor of Medicine, Division of Geriatric Medicine, University of Colorado at Denver and Health Sciences Center; William Kraus, M.D., Professor, Division of Cardiovascular Medicine, Duke University School of Medicine; I-Min Lee, M.D., Sc.D., Associate Professor of Medicine, Harvard Medical School and Associate Professor of Epidemiology, Harvard School of Public Health; Anne McTiernan, M.D., PhD., Director, Prevention Center, Fred Hutchinson Cancer Research Center; Russell Pate, PhD., Associate Vice President for Health Sciences, Office of Research and Health Sciences and Professor, Department of Exercise Science, University of South Carolina; Kenneth Powell, M.D., M.P.H., Public Health and Epidemiologic Consultant; Judith Regensteiner, PhD., Professor Department of Medicine and Director, Center for Women's Health Research, University of Colorado at Denver and Health Sciences Center: James Rimmer, PhD., Professor and Director, National Center on Physical Activity and Disability, Department of Disability and Human Development, University of Illinois at Chicago; and Antronette Yancey, M.D., M.P.H., Professor, Department of Health Services, University of California at Los Angeles School of Public Health.

Purpose of the Meeting: The Advisory Committee will present current work performed since the initial meeting of the Committee in June and deliberate on next steps. The Committee will also hear oral comments from the public to help inform them as they prepare their report to the Secretary. The report to the Secretary will outline the scientific background and rationale for the issuance of Physical Activity Guidelines for Americans. The report will also identify areas where further scientific research is needed. The Committee's recommendations will be utilized by the Department to prepare the final Physical Activity Guidelines. The intent is to develop physical activity recommendations for all Americans that will be tailored as necessary for specific subgroups of the population.

Public Participation at Meeting: Members of the public are invited to observe the Advisory Committee meeting. On December 7, a portion of the meeting agenda will be allocated for committee members to hear public comments. All individuals wishing to observe and/or make comments at the meeting must indicate their intention to do so by pre-registering at http://www.health.gov/PAguidelines. Due to time constraints, a limited number of scheduled time slots for public comments will be made available on a first-come-first-served basis through pre-registration. Comments will also be limited to 1-2 minutes per individual. Attendees that do not pre-register to make comments cannot be guaranteed an opportunity to have his or her comments heard during the meeting. Individuals are encouraged to submit their comments in writing in advance of the meeting through the pre-registration process. Additionally, individuals wishing to only submit written comments may also do so through pre-registration or by e-mail to PA.Guidelines@hhs.gov. Please note there will be no public comment session during the Advisory Committee meeting on December 6. Registrations must be completed by November 30, 2007. Space for the meeting is limited and registrations will be accepted until maximum room capacity is reached. A waiting list will be maintained should registrations exceed room capacity. Individuals on the waiting list will be contacted as additional space for the meeting becomes available.

Registrants for the Physical Activity Advisory Guidelines Committee meeting must present valid government-issued photo identification (i.e., driver's license) and should arrive 45 minutes prior to the start of the meeting to clear through security. Security will provide registered attendees badges that must be worn at all times and returned to security prior to exiting the Cohen Building.

Registration questions may be directed to Experient at PAguidelines@experient-inc.com (e-mail), (703) 525-8333 x3346 (phone) or (703) 525-8557 (fax).

Dated: November 8, 2007.
Penelope Slade Royall,
RADM, USPHS, Deputy Assistant Secretary for Health, Office of Disease Prevention and Health Promotion.

[FR Doc. E7-22333 Filed 11-14-07; 8:45 am]

BILLING CODE 4150-32-P